DEPARTMENT OF TRANSPORTATION

National Highway Traffic Safety Administration

49 CFR Part 571

[Docket No. NHTSA-2024-0006]

RIN 2127-AM40

Federal Motor Vehicle Safety Standards; Fuel System Integrity of Hydrogen Vehicles, Compressed Hydrogen Storage System Integrity, Incorporation by Reference

AGENCY: National Highway Traffic Safety Administration (NHTSA); Department of Transportation (DOT).

ACTION: Proposed rule; extension of comment period.

SUMMARY: NHTSA received requests to extend the comment period for the Notice of Proposed Rulemaking (NPRM) regarding fuel system integrity of hydrogen vehicles and compressed hydrogen storage system integrity that NHTSA published on April 17, 2024. The comment period for the NPRM was scheduled to end on June 17, 2024. NHTSA is extending the comment period for the NPRM by 30 days.

DATES: The comment period for the NPRM published on April 17, 2024, at 89 FR 27502, is extended to July 17, 2024.

ADDRESSES: You may submit comments to the docket number identified in the heading of this document by any of the following methods:

• Federal eRulemaking Portal: Go to http://www.regulations.gov. Follow the online instructions for submitting comments.

• Mail: Docket Management Facility: U.S. Department of Transportation, 1200 New Jersey Avenue SE, West Building Ground Floor, Room W12-140, Washington, DC 20590-0001.

• Hand Delivery or Courier: 1200 New Jersey Avenue SE, West Building Ground Floor, Room W12-140, between 9 a.m. and 5 p.m. ET, Monday through Friday, except Federal holidays.

• Fax: 202-493-2251.

Instructions: All submissions must include the agency name and docket number. Note that all comments received will be posted without change to http://www.regulations.gov, including any personal information provided. Please see the Privacy Act discussion below. We will consider all comments received before the close of business on the comment closing date indicated above. To the extent possible, we will also consider comments filed after the closing date.

Docket: For access to the docket to read background documents or comments received, go to http://www.regulations.gov at any time or to 1200 New Jersey Avenue SE, West Building Ground Floor, Room W12-140, Washington, DC 20590, between 9 a.m. and 5 p.m., Monday through Friday, except Federal Holidays. Telephone: 202-366-9826.

Privacy Act: In accordance with 5 U.S.C. 553(c), DOT solicits comments from the public to better inform its decision-making process. DOT posts these comments, without edit, including any personal information the commenter provides, to www.regulations.gov, as described in the system of records notice (DOT/ALL-14 FDMS), which can be reviewed at www.transportation.gov/privacy. In order to facilitate comment tracking and response, we encourage commenters to provide their name, or the name of their organization; however, submission of names is completely optional. Whether or not commenters identify themselves, all timely comments will be fully considered.

Confidential Business Information: If you wish to submit any information under a claim of confidentiality, you must submit your request directly to NHTSA's Office of the Chief Counsel. Requests for confidentiality are governed by 49 CFR part 512. NHTSA is currently treating electronic submission as an acceptable method for submitting confidential business information to the agency under part 512. If you would like to submit a request for confidential treatment, you may email your submission to Dan Rabinovitz in the Office of the Chief Counsel at Daniel.Rabinovitz@dot.gov or you may contact him for a secure file transfer link. At this time, you should not send a duplicate hardcopy of your electronic CBI submissions to DOT headquarters. If you claim that any of the information or documents provided to the agency constitute confidential business information within the meaning of 5 U.S.C. 552(b)(4), or are protected from disclosure pursuant to 18 U.S.C. 1905, you must submit supporting information together with the materials that are the subject of the confidentiality request, in accordance with part 512, to the Office of the Chief Counsel. Your request must include a cover letter setting forth the information specified in our confidential business information regulation (49 CFR 512.8) and a certificate, pursuant to § 512.4(b) and part 512, Appendix A. In addition, you should submit a copy, from which you have deleted the claimed confidential business information, to the Docket at the address given above.

FOR FURTHER INFORMATION CONTACT:

For technical issues: Ian MacIntire, National Highway Traffic Safety Administration, 1200 New Jersey Avenue SE, West Building, Washington, DC 20590 (telephone) 202-493-0248, (email) Ian.MacIntire@dot.gov.

For legal issues: Paul Connet, Office of the Chief Counsel, National Highway Traffic Safety Administration, 1200 New Jersey Avenue SE, West Building, Washington, DC 20590, (telephone) 202-366-5547, (email) Paul.Connet@dot.gov.

SUPPLEMENTARY INFORMATION: On April 17, 2024, NHTSA published an NPRM proposing to establish two new Federal motor vehicle safety standards (FMVSSs) that would specify performance requirements for all motor vehicles that use hydrogen as a fuel source. The proposed standards are based on Global Technical Regulation (GTR) No. 13, Hydrogen and fuel cell vehicles. FMVSS No. 307, “Fuel system integrity of hydrogen vehicles,” would specify requirements for the integrity of the fuel system in hydrogen vehicles during normal vehicle operations and after crashes. FMVSS No. 308, “Compressed hydrogen storage system integrity,” would specify requirements for the compressed hydrogen storage system to ensure the safe storage of hydrogen onboard vehicles. The two proposed standards would reduce deaths and injuries that could occur as a result of fires due to hydrogen fuel leakages and/or explosion of the hydrogen storage system. The comment period for the NPRM was scheduled to end on June 17, 2024.

Comment Period Extension Requests

On May 15, 2024, NHTSA received a request from the Alliance for Automotive Innovation to extend the comment period for the NPRM. The request stated that the current 60-day period does not allow adequate time for a thorough review and comprehensive comments due to the complexity of the proposed standards and the substantial amount of feedback requested by NHTSA. The request stated that several of the issues are highly complex and require careful consideration, particularly where there are differences in NHTSA's approach as compared to GTR No. 13. The Alliance stated that responding to these queries may require detailed analysis and collaboration among stakeholders. Therefore, they requested a 30-day extension of the comment period in order to provide more detailed comments to inform the rulemaking process.

On May 24, 2024, NHTSA received a second request for a 30-day extension of the comment period from OP Mobility. OP Mobility stated that the additional time is needed to conduct a proper analysis and confirm that the proposal will ensure safety, align with global norms, and allow for efficient development and innovation. They also stated that they are digging into the details of the proposal and working with others in the industry to harmonize the comments.

On May 28, 2024, NHTSA received two additional extension requests. One was from the Motor & Equipment Manufacturers Association (MEMA) requesting a 30-day extension to the comment period to enable them to develop more useful and actionable comments. The other request was from FORVIA North America. FORVIA North America described their experience and expertise in the hydrogen industry, as a developer of hydrogen containers for automotive applications. FORVIA also requested a 30-day extension to the comment period, stating that such an extension would provide sufficient time to extensively analyze the proposal and draft comprehensive comments. They stated they are comparing the proposals in the NPRM to GTR No. 13 and to the Economic Commission for Europe's standard R134 “Uniform provisions concerning the approval of motor vehicles and their components with regard to the safety-related performance of hydrogen fuelled vehicles (HFCV)”

Agency Decision

Pursuant to 49 CFR 553.19 and after thorough consideration of these requests, NHTSA has determined that the requestors have provided sufficient justification for an extension, and that the extension is consistent with the public interest. NHTSA acknowledges the importance of receiving thorough comments to improve the standards' objectivity, efficiency, and effectiveness. NHTSA agrees that allowing additional time for the public and its stakeholders to provide robust and substantive comments on these complex issues will better inform NHTSA. A 30-day extension appropriately balances NHTSA's interest in providing the public with sufficient time to review the docket and comment on the complex questions raised in the NPRM with its interest in obtaining specific feedback from stakeholders in a timely manner. The extension will also provide additional time for commenters to review the supplementary information that is available in the docket of the NPRM. Accordingly, NHTSA is granting the aforementioned requests and extending the comment period by 30 days.

Authority: 49 U.S.C. 322, 30111, 30115, 30117, and 30166; delegation of authority at 49 CFR 1.95 and 501.8.

Raymond R. Posten,
Associate Administrator, Rulemaking.

[FR Doc. 2024-12333 Filed 6-5-24; 8:45 am]

BILLING CODE 4910-59-P